DEPARTMENT OF THE INTERIOR

National Park Service

[NPS-WASO-NRNHL-17712;PPWOCRADI0, PCU00RP14.R50000]

National Register of Historic Places; Notification of Pending Nominations and Related Actions

Nominations for the following properties being considered for listing or related actions in the National Register were received by the National Park Service before February 14, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 1, 2015. Before including your address, phone number, email address, or other personal identifying information in your comment, you should be aware that your entire comment—including your personal identifying information—may be made publicly available at any time. While you can ask us in your comment to withhold your personal identifying information from public review, we cannot guarantee that we will be able to do so.

Dated: February 25, 2015.
J. Paul Loether,
Chief, National Register of Historic Places, National Historic Landmarks Program.

COLORADO

Las Animas County

Foster House Stage Station and Hotel Site, Address Restricted, Aguilar, 15000110

CONNECTICUT

Fairfield County

Sturges—Wright House, 93 Cross Hwy., Westport, 15000111

Hartford County

Parkville Historic District, Roughly bounded by I-84, Park Hwy., Francis Ct., New Park & Sisson Aves., Hartford, 15000112

New Haven County

Crawford, George W., House, 84-96 Park St., New Haven, 15000113

DISTRICT OF COLUMBIA

District of Columbia

Bruce, Blanche Kelso, Elementary School, (Public School Buildings of Washington, DC MPS) 770 Kenyon St. NW., Washington, 15000114

Wilson, James Ormand, Normal School, (Public School Buildings of Washington, DC MPS) 1100 Harvard St. NW., Washington, 15000115

TENNESSEE

Franklin County

Sewanee Fire Lookout Tower, (Tennessee Division of Forestry Fire Lookout Towers MPS) 310 Fire Tower Rd., Sewanee, 15000116

Knox County

Winstead Cottage and Bethel Confederate Cemetery, 1917 Bethel Ave., Knoxville, 15000117

Tipton County

Price, Dr. Thomas H., House, 620 N. Main St., Covington, 15000118

A request for removal has been received for the following resources:

LOUISIANA

Avoyelles Parish

Lacour's Fish and Ice Company Building, LA 1, Simmesport, 83000488

Orleans Parish

Canal Station, 2819 Canal St., New Orleans, 92001873

Ouachita Parish

St. James United Methodist Church, 916 Adams St., Monroe, 92001519

Rapides Parish

Rapides Lumber Company Sawmill Manager's House, Jct. of US 165 and Castor Plunge Rd., Woodworth, 90001753

Tangipahoa Parish

Loranger Methodist Church, Allman Ave. and Magnolia Blvd., Loranger, 82000464

Terrebonne Parish

St. Matthew's Episcopal Church, 243 Barrow St., Houma, 89000331

West Baton Rouge Parish

Cohn High School, 805 N 14th St., Port Allen, 04000638

[FR Doc. 2015-06030 Filed 3-16-15; 8:45 am]

BILLING CODE 4312-51-P